DEPARTMENT OF TRANSPORTATION

Federal Aviation Administration

14 CFR Part 71

[Docket No. FAA-2016-9378; Airspace Docket No. 16-ASW-16]

Amendment, Revocation, and Establishment of Class D and E Airspace; Enid Vance AFB, OK; Enid Woodring Municipal Airport, OK; Enid, OK; and Vance AFB, OK

AGENCY: Federal Aviation Administration (FAA), DOT.

ACTION: Final rule.

SUMMARY: This action: Removes the Class D airspace for Enid Woodring Municipal Airport, OK, and Enid Vance AFB, OK; establishes Class D airspace for Enid Woodring Regional Airport, Enid, OK, and Vance AFB, OK; amends the Class E airspace designated as a surface area for Enid Woodring Regional Airport; establishes Class E airspace designated as a surface area for Vance AFB; removes the Class E airspace designated as an extension of Class D and Class E surface areas at Enid Woodring Municipal Airport, OK, and Enid Vance AFB, OK; establishes Class E airspace designated as an extension of Class D and Class E surface areas at Enid Woodring Regional Airport and Vance AFB; and amends the Class E airspace extending upward from 700 feet above the surface at Enid Woodring Regional Airport and Vance AFB. Due to the differing operating hours of the two airports, the airspace descriptions are being separated for safety and management of instrument flight rules (IFR) operations at these airports. Additionally, airspace redesign is necessary to accommodate new instrument procedures at Enid Woodring Regional Airport.

DATES: Effective 0901 UTC, July 19, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace in the Enid, OK, area to support IFR operations.

History

The FAA published a notice of proposed rulemaking in the Federal Register (82 FR 28794; June 26, 2017) for Docket No. FAA-2016-9378 to remove the Class D and Class E airspace at Enid Woodring Municipal Airport, OK, and Enid Vance AFB, OK, and establish and amend Class D and E airspace at Enid Woodring Regional Airport, OK, and Vance AFB, OK, to enhance the safety and management of IFR operations at these airports. Interested parties were invited to participate in this rulemaking effort by submitting written comments on the proposal to the FAA. No comments were received.

Class D and Class E airspace designations are published in paragraph 5000, 6002, 6004, and 6005, respectively, of FAA Order 7400.11B, dated August 3, 2017, and effective September 15, 2017, which is incorporated by reference in 14 CFR 71.1. The Class D and Class E airspace designations listed in this document will be published subsequently in the Order.

Differences From the NPRM

The description for the Class E airspace designated as an extension to Class D or Class E surface area at Enid Woodring Regional Airport, Enid, OK, has been updated to include the radial and width information for the extensions that was inadvertently omitted from the NPRM.

The description for the Class E airspace designated as an extension to Class D or Class E surface area at Vance AFB, OK, has been updated to include the radial and width information for the extensions that was inadvertently omitted from the NPRM.

The airspace description for the Class D airspace at Vance AFB, OK, has been simplified to provide a clearer description of the airspace.

The airspace description for the Class E airspace designated as a surface area at Vance AFB, OK, has been simplified to provide a clearer description of the airspace.

The eastern boundary for the Class E airspace area extending upward from 700 feet or more above the surface for Enid, OK, has been changed from “8.7 miles east and west of Vance AFB” to “9.1 miles east and 8.7 miles west of Vance AFB” to fully contain the new southern Class E airspace area designated as an extension to Class D or Class E surface areas at Enid Woodring Regional Airport within this airspace. Additionally, the exclusionary language in the airspace description is no longer required and has been removed.

Additionally, the geographic coordinates for Vance AFB are being updated to coincide with a recent change to the FAA aeronautical database.

Except for the changes noted above, the actions in this final rule are the same as published in the NPRM.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by:

Removing the Class D airspace at Enid Vance AFB, OK;

Removing the Class D airspace at Enid Woodring Municipal Airport, OK;

Establishing Class D airspace at Enid Woodring Regional Airport, Enid, OK, within a 4.5-mile radius of the airport;

Establishing Class D airspace at Vance AFB, OK, within a 5.1-mile radius of the airport;

Amending the Class E airspace designated as a surface area within a 4.5-mile radius (increased from a 4.1-mile radius) of Enid Woodring Regional Airport, Enid, OK, removing the airspace within a 5.1-mile radius of Vance AFB, and removing references to Vance AFB from the airspace description;

Establishing Class E airspace designated as a surface area within a 5.1-mile radius of Vance AFB, OK;

Removing the Class E airspace designated as an extension to Class D or Class E surface area at Enid Vance AFB, OK;

Removing the Class E airspace designated as an extension to Class D or Class E surface area at Enid Woodring Municipal Airport, OK;

Establishing Class E airspace designated as an extension to Class D or Class E surface area at Enid Woodring Regional Airport, Enid, OK, within 2.4 miles each side of the 347° radial of the Woodring VOR/DME extending from the 4.5-mile radius of the airport to 7 miles north of the airport, and within 2.4 miles each side of the 177° radial of the Woodring VOR/DME extending from the 4.5-mile radius to 7 miles south of the airport;

Establishing Class E airspace designated as an extension to Class D or Class E surface area at Vance AFB, OK, with a segment 1.3 miles each side of the 188° radial of the Vance VORTAC extending from the 5.1-mile radius to 6.1 miles south of the airport; and

Amending the Class E airspace extending upward from 700 feet above the surface at Enid, OK, within 9.1 miles east (increased from 8.7 miles) and 8.7 miles east of Vance AFB, and within a 7-mile radius (increasing from a 6.6-mile radius) of Enid Woodring Regional Airport, removing the Woodring VOR/DME extensions, and updating the name of the airport to coincide with the FAA's aeronautical database.

The FAA has determined that due to the differing operating hours of the two airports, the airspace descriptions should be separated for safety and management of IFR operations at these airports. Also, after an airspace review of the Enid Woodring Regional Airport, the FAA found airspace redesign was necessary at Enid Woodring Regional Airport to accommodate new instrument procedures at the airport and for the safety and management of IFR operations at this airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ASW OK D Enid Vance AFB, OK [Removed]

ASW OK D Enid Woodring Municipal Airport, OK [Removed]

* * * * *

ASW OK D Enid, OK [New]

Enid Woodring Regional Airport, OK

(Lat. 36°22′33″ N, long. 97°47′22″ W)

That airspace extending upward from the surface to and including 3,800 feet within a 4.5-mile radius of Enid Woodring Regional Airport, excluding that portion of airspace west of long. 97°51′01″ W. This Class D airspace area is effective during the specific dates and times established in advance by a Notice to Airmen. The effective date and time will thereafter be continuously published in the Chart Supplement.

* * * * *

ASW OK D Vance AFB, OK [New]

Vance AFB, OK

(Lat. 36°20′23″ N, long. 97°55′02″ W)

That airspace extending upward from the surface to and including 3,800 feet within a 5.1-mile radius of Vance AFB, excluding the Enid, OK, Class D and Class E airspace designated as surface areas. This Class D airspace area is effective during the specific dates and times established in advance by a Notice to Airmen. The effective date and time will thereafter be continuously published in the Chart Supplement.

Paragraph 6002 Class E Airspace Designated as a Surface Area.

* * * * *

ASW OK E2 Enid, OK [Amended]

Enid Woodring Regional Airport, OK

(Lat. 36°22′33″ N, long. 97°47′22″ W)

That airspace within a 4.5-mile radius of Enid Woodring Regional Airport excluding that portion of airspace west of long. 97°51′01″ W. This Class E airspace area is effective during the specific dates and times established in advance by a Notice to Airmen. The effective date and time will thereafter be continuously published in the Chart Supplement.

* * * * *

ASW OK E2 Vance AFB, OK [New]

Vance AFB, OK

(Lat. 36°20′23″ N, long. 97°55′02″ W)

That airspace within a 5.1-mile radius of Vance AFB, excluding the Enid, OK, Class D and Class E airspace designated as surface areas. This Class E airspace area is effective during the specific dates and times established in advance by a Notice to Airmen. The effective date and time will thereafter be continuously published in the Chart Supplement.

Paragraph 6004 Class E Airspace Areas Designated as an Extension to Class D or Class E Surface Areas.

* * * * *

ASW OK E4 Enid Vance AFB, OK [Removed]

ASW OK E4 Enid Woodring Municipal Airport, OK [Removed]

* * * * *

ASW OK E4 Enid, OK [New]

Enid Woodring Regional Airport, OK

(Lat. 36°22′33″ N, long. 97°47′22″ W)

Woodring VOR/DME

(Lat. 36°22′26″ N, long. 97°47′17″ W)

That airspace extending upward from the surface within 2.4 miles each side of the 347° radial of the Woodring VOR/DME extending from the 4.5-mile radius of Enid Woodring Regional Airport to 7 miles north of the airport, and within 2.4 miles each side of the 177° radial of the Woodring VOR/DME extending from the 4.5-mile radius of the airport to 7 miles south of the airport.

* * * * *

ASW OK E4 Vance AFB, OK [New]

Vance AFB, OK

(Lat. 36°20′23″ N, long. 97°55′02″ W)

Vance VORTAC

(Lat. 36°20′42″ N, long. 97°55′06″ W)

That airspace extending upward from the surface within 1.3 miles each side of the 188° radial of the Vance VORTAC extending from the 5.1-mile radius of Vance AFB to 6.1 miles south of the airport.

Paragraph 6005 Class E Airspace Areas Extending Upward From 700 Feet or More Above the Surface of the Earth.

* * * * *

ASW OK E5 Enid, OK [Amended]

Vance AFB, OK

(Lat. 36°20′23″ N, long. 97°55′02″ W)

Enid Woodring Regional Airport, OK

(Lat. 36°22′33″ N, long. 97°47′22″ W)

That airspace extending upward from 700 feet above the surface within 9.1 miles east and 8.7 miles west of Vance AFB extending to 15.2 miles north and south of Vance AFB, and within a 7-mile radius of Enid Woodring Regional Airport.

Issued in Fort Worth, Texas, on March 28, 2018.
Walter Tweedy,
Acting Manager, Operations Support Group, ATO Central Service Center.

[FR Doc. 2018-06756 Filed 4-4-18; 8:45 am]

BILLING CODE 4910-13-P